DEPARTMENT OF ENERGY

Secretary of Energy Advisory Board; Notice of Meeting

AGENCY: Department of Energy.

ACTION: Notice of open meeting.

SUMMARY: This notice announces an open meeting of the Secretary of Energy Advisory Board (SEAB) Task Force on Technology Development for Environmental Management (EM). SEAB was reestablished pursuant to the Federal Advisory Committee Act (Pub. L. 92-463, 86 Stat. 770) (the Act). This notice is provided in accordance with the Act.

DATES: Thursday, October 9, 2014, 8:30 a.m.-1:30 p.m.

ADDRESSES: Department of Energy, 1000 Independence Avenue SW., Washington, DC 20585.

FOR FURTHER INFORMATION CONTACT: Corey Williams-Allen, Deputy Designated Federal Officer, U.S. Department of Energy, 1000 Independence Avenue SW., Washington, DC20585; email: seab@hq.doe.gov.

SUPPLEMENTARY INFORMATION:

Background: The Board was established to provide advice and recommendations to the Secretary on the Department's basic and applied research, economic and national security policy, educational issues, operational issues and other activities as directed by the Secretary. The Task Force on Technology Development for EM is charged with assessing the value of a renewed EM science and technology development effort and how such a program would be structured.

Purpose of the Meeting: The meeting will be an opportunity to hear an overview of environmental management at the Department.

Tentative Agenda: The meeting will start at 8:30 a.m. on October 9, 2014. The tentative meeting agenda includes updates from DOE program offices, the national academies, and the national laboratory system, as well as comments from the public. The meeting will conclude at 1:30 p.m. Agenda updates will be posted on the SEAB Web site: www.energy.gov/seab.

Public Participation: The meeting is open to the public. Individuals who would like to attend must RSVP to Corey Williams-Allen no later than 5:00 p.m. on Tuesday, October 7, 2014 by email at: seab@hq.doe.gov. Please provide your name, organization, citizenship and contact information. Anyone attending the meeting will be required to present government-issued identification. Please note that the Department of Homeland Security (DHS) has determined that regular driver's licenses (and ID cards) from the following jurisdictions are not acceptable: Alaska, American Samoa, Arizona, Louisiana, Maine, Massachusetts, Minnesota, New York, Oklahoma, and Washington. Acceptable alternate forms of Photo-ID include: U. S. Passport or Passport Card; Enhanced Driver's License or Enhanced ID-Card issued by the states of Minnesota, New York or Washington (Enhanced licenses issued by these states are clearly marked Enhanced or Enhanced Driver's License); Military ID or other government issued photo-ID card. Individuals and representatives of organizations who would like to offer comments and suggestions may do so at the end of the meeting on Thursday, October 9, 2014. Approximately 30 minutes will be reserved for public comments. Time allotted per speaker will depend on the number who wish to speak but will not exceed 3 minutes. The Deputy Designated Federal Officer is empowered to conduct the meeting in a fashion that will facilitate the orderly conduct of business. Those wishing to speak should register to do so beginning at 8:30 a.m. on October 9, 2014.

Those not able to attend the meeting or have insufficient time to address the committee are invited to send a written statement to Corey Williams-Allen, U.S. Department of Energy, 1000 Independence Avenue SW., Washington, DC 20585, or by email to: seab@hq.doe.gov.

Minutes: Following the meeting, the minutes of the meeting will be available on the SEAB Web site: www.energy.gov/seab.

Issued in Washington, DC on September 17, 2014.
LaTanya R. Butler,
Deputy Committee Management Officer.

[FR Doc. 2014-22889 Filed 9-25-14; 8:45 am]

BILLING CODE 6450-01-P